NATIONAL AERONAUTICS AND SPACE ADMINISTRATION

48 CFR Part 1845

Property Reporting Requirements—Correction

AGENCY: National Aeronautics and Space Administration (NASA)

ACTION: Interim rule: correction.

SUMMARY: This is a correction of the amendatory language of item 2 of the Property Reporting Requirements interim rule published September 11, 2000.

EFFECTIVE DATE: September 11, 2000

FOR FURTHER INFORMATION CONTACT: Celeste Dalton, NASA, Office of Procurement, Contract Management Division (Code HK), 202-358-1645.

SUPPLEMENTARY INFORMATION:

A. Background

The amendatory language at item 2 of the interim rule on Property Reporting Requirements published in the Federal Register on September 11, 2000 (65 FR 54813—54816) incorrectly identified all of subpart 1845.71 as being revised. The effect of the error was the inadvertent omission of section 1845.7102, Instructions for preparing DD Form 1419. This correction revises the amendatory language for item 2 to indicate that only sections 1845.7101, 1845.7101-1, 1845.7101-2, 1875.7101-3, 1845.7101-4, and 1845.7101-5 are revised.

List of Subjects in 48 CFR Part 1845

Government Procurement.

Tom Luedtke,
Associate Administrator for Procurement.

Accordingly, 48 CFR Part 1845 is amended as follows:

1. The authority citation for 48 CFR Part 1845 continues to read as follows:

Authority: 42 U.S.C. 2473(c)(1).

2. Correct item 2 in the first column of page 54814, by deleting the Table of Contents and revising the amendatory instruction to read as follows:

PART 1845—GOVERNMENT PROPERTY

2. In subpart 1845.71 revise sections 1845.7101, 1845.7101-1, 1845.7101-2, 1875.7101-3, 1845.7101-4, and 1845.7101-5 to read as follows:

[FR Doc. 00-24812 Filed 9-27-00; 8:45 am]

BILLING CODE 7510-01-P